FEDERAL COMMUNICATIONS COMMISSION

[OMB 3060-1155]

Information Collection Being Submitted for Review and Approval to the Office of Management and Budget

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The Commission may not conduct or sponsor a collection of information unless it displays a currently valid Office of Management and Budget (OMB) control number. No person shall be subject to any penalty for failing to comply with a collection of information subject to the PRA that does not display a valid OMB control number.

DATES: Written comments should be submitted on or before June 7, 2019. If you anticipate that you will be submitting comments, but find it difficult to do so within the period of time allowed by this notice, you should advise the contacts listed below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: As part of its continuing effort to reduce paperwork burdens, and as required by the Paperwork Reduction Act (PRA) of 1995 (44 U.S.C. 3501-3520), the Federal Communications Commission (FCC or the Commission) invites the general public and other Federal agencies to take this opportunity to comment on the following information collection.

Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-1155.

Title: Sections 15.713, 15.714, 15.715 15.717, 27.1320, TV White Space Broadcast Bands.

Form No.: N/A.

Type of Review: Revision of a currently approved collection.

Respondents: Business or other for-profit entities.

Number of Respondents and Responses: 1,510 respondents; 3,500 responses.

Estimated Time per Response: 2 hours.

Frequency of Response: On occasion reporting requirement, recordkeeping requirement and third party disclosure requirement.

Obligation To Respond: Required to obtain or retain benefits. Statutory authority for this information collection is contained in 47 U.S.C. Sections 154(i), 302, 303(c), 303(f), and 307 of the Communications Act of 1934, as amended.

Total Annual Burden: 7,000 hours.

Total Annual Cost: $151,000.

Privacy Act Impact Assessment: No Impact(s).

Nature and Extent of Confidentiality: The Commission is not requesting respondents to submit confidential information to the Commission. Respondents may request confidential treatment of such information under 47 CFR 0.459 of the Commission's rules.

Needs and Uses: The Commission is submitting this information collection to the Office of Management and Budget (OMB) after this 60 day comment period in order to obtain the full three year clearance.

On July 13, 2017, the Commission adopted an Order on Reconsideration in ET Docket Nos. 14-165 and 14-166, FCC 17-95, that addressed wireless microphone issues (2017 Wireless Microphone Order). Because the date the Commission specified in the 2015 White Spaces R&O for ending registration of unlicensed wireless microphones in the white space database had passed with the release of the Channel Reassignment Public Notice on April 13, 2017, the Order removed and reserved Section 15.713(j)(9) that had previously allowed such registrations.

The white space rules as amended by the 2015 White Spaces R&O require that each white space database administrator shall:

(a) Maintain a database that contains the information described in § 15.713 of the rules. The database must include information on protected entities and services, including TV stations, Broadcast Auxiliary Services, Private Land Mobile and Commercial Radio Service operations, part 74 Low Power Auxiliary Stations such as wireless microphones, the locations where part 27 600 MHz service licensees have commenced operation, and the locations of health care facilities that use WMTS equipment operating on channel 37. (Section 15.715(a));

(b) Establish a process for acquiring and storing in the database necessary and appropriate information from the Commission's databases and synchronizing the database with the current Commission databases at least once a week to include newly licensed facilities or any changes to licensed facilities (Section 15.715(b));

(c) Establish a process for registering fixed white space devices and registering and including in the database those facilities entitled to protection but not contained in a Commission database, including Multi-channel Video Programming Distributor (MVPD) receive sites. The database administrators must establish procedures to allow part 27 600 MHz service licensees to upload, modify and replace registration information for areas where they have commenced operations; allow health care facilities to register the locations of facilities where they operate WMTS networks on channel 37; and to allow unlicensed wireless microphone users in the 600 MHz band to register with the database and to provide lists of channels available for wireless microphones at a given location (Sections 15.715(n), (p) and (q)). Database administrators must remove from the database the registrations of fixed white space devices that have not checked the database for at least three months to update their channel lists (Section 15.715(o));

(d) Establish a process for registering facilities where part 74 low power auxiliary devices are used on a regular basis (Sections 15.713(j)(8) and 15.715(d));

(e) Provide accurate automated information regarding available channels to fixed and personal/portable white space devices that submit to the database the information required under § 15.713(e), (g) and (h) based on the geographic location of the device; and provide accurate automated information regarding available channels to fixed and Mode II devices requesting information regarding available channels for Mode I devices. Database administrators may allow prospective operators of white space devices to query the database and determine if there are vacant channels at a particular location (Section 15.715(e)); (f) Establish protocols and procedures to ensure that all automated communications and interactions between the database and white space devices are accurate and secure and that unauthorized parties cannot access or alter the database or the information regarding available channels sent to a white space device consistent with the provisions of Section 15.713(l) (Section 15.715(f));

(g) Make database services available to all unlicensed white space device users on a non-discriminatory basis (Section 15.715(g));

(h) Provide service for a five-year term. This term can be renewed at the Commission's discretion (Section 15.715(h));

(i) Respond in a timely manner to verify, correct and/or remove, as appropriate, data in the event that the Commission or a party brings a claim of inaccuracies in the database to the attention of the administrator. This requirement applies only to information that the Commission requires to be stored in the database (Section 15.715(i));

(j) Transfer the database, along with the IP addresses and URLs used to access the database and data for registered fixed and personal/portable white space devices, to another designated entity in the event it does not continue as the database administrator at the end of its term (Section 15.715(j));

(k) The database must have functionality such that upon request from the Commission it can indicate that no channels are available when queried by a specific white space devices or model of white space device (Section 15.715(k));

(l) If more than one database is developed, the database administrators must cooperate to develop a standardized process for providing on a daily basis or more often, as appropriate the data collected for the facilities listed in § 15.713(b)(2) to all other white space databases to ensure consistency in the records of protected facilities (Section 15.715(l));

(m) The database administrator may charge a fee for provision of lists of available channels to fixed and personal/portable devices and for registering fixed devices. This provision applies to devices that operate in the TV bands, 600 MHz service band, and the 600 MHz guard bands and duplex gap. A white space database administrator may also charge a fee for provision of lists of available channels to wireless microphone users. (Section 15.714).

To receive interference protection, 600 MHz licensees must notify one of the white space database administrators of the areas where they have commenced operation pursuant to §§ 15.713(j)(10) and 15.715(n) of this chapter (Section 27.1320).

Federal Communications Commission.
Marlene Dortch,
Secretary, Office of the Secretary.

[FR Doc. 2019-09427 Filed 5-7-19; 8:45 am]

BILLING CODE 6712-01-P